DEPARTMENT OF AGRICULTURE

Office of Procurement and Property Management

Notice of Request for an Extension and Revision of a Currently Approved Information Collection

AGENCY: Office of Procurement and Property Management (OPPM), U.S. Department of Agriculture (USDA).

ACTION: Notice and request for comments.

SUMMARY: In accordance with the Paperwork Reduction Act of 1995 (44 U.S.C. Chapter 35), this notice announces the Office of Procurement and Property Management's intention to request a revision of a currently approved information collection for Guidelines for the Transfer of Excess Computers or Other Technical Equipment Pursuant to Section 14220 of the 2008 Farm Bill (7 CFR Part 3203).

DATES: Comments on this notice must be received by November 10, 2014 to be assured of consideration.

ADDRESSES: You may submit comments by any of the following methods:

• Federal eRulemaking Portal: http://www.regulations.gov. Follow the instructions for submitting comments.

• Email: Sect14220.2008FarmBill@dm.usda.gov. Include OMB Control No. 0505-0023 in the subject line of the message.

• Fax: (202) 720-8972.

• Mail: Office of Procurement and Property Management, Property Management Division, Attn: Michael R. Johnson, 300 7th Street SW., Suite 316, Washington, DC 20024.

• Hand Delivery/Courier: Reporter's Building, 300 7th Street SW., Suite 316, Washington, DC 20024.

FOR FURTHER INFORMATION CONTACT: Mr. Michael R. Johnson, OPPM at (202) 720-9779 or by mail at USDA, OPPM, 300 7th Street SW., Suite 316, Washington, DC 20024. Please cite OMB Control No. 0505-0023.

SUPPLEMENTARY INFORMATION: Title: Guidelines for the Transfer of Excess Computers or Other Technical Equipment Pursuant to Section 14220 of the 2008 Farm Bill.

OMB Number: 0505-0023.

Expiration Date of Approval: 08/31/2014.

Type of Request: Extension and revision of a currently approved information collection.

Abstract: USDA requires information in order to verify eligibility of requestors, determine availability of excess property, have contact information for the requestor available and to ensure an organization is designated to receive property on behalf of an eligible recipient. Information will be used to coordinate the transfer of excess property to eligible recipients. Respondents will be authorized representatives of a city, town, or local government entity located in a rural area as defined in 7 U.S.C. 1991(a)(13)(A).

Estimate of Burden: Public reporting burden for this collection of information is estimated to average .167 hours per response.

Respondents: City, town, or local government entities located in a rural area.

Estimated Number of Respondents: 10.

Estimated Number of Responses per Respondent: 1.

Estimated Total Annual Burden on Respondents: 2 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: September 2, 2014.
Lisa M. Wilusz,
Director, Office of Procurement and Property Management.

[FR Doc. 2014-21669 Filed 9-10-14; 8:45 am]

BILLING CODE 3410-TX-P